DEPARTMENT OF STATE

[Public Notice: 11016]

Commission on Unalienable Rights; Notice of Open Meeting

The Commission on Unalienable Rights (“Commission”) will meet from 2:00 p.m. until 5:35 p.m., on Friday, February 21 and from 1:00 p.m. until 5:05 p.m. on Thursday, March 26. Both meetings will be in Washington, DC at the State Department, 320 21st St. NW. Doors for the February 21 meeting will open at 1:00 p.m. and doors for the March 26 meeting will open at 12:00 p.m. There will not be late seating available for the March 26 meeting. Participants are asked to use the 21st Street entrance to gain access to each meeting. The March meeting will be directed by the Chair of the Commission, Ambassador Mary Ann Glendon. The Commission serves the U.S. government in a solely advisory capacity, and provides advice concerning principles related to human rights. The discussion at the February 21 meeting will include topics related to the role of human rights in American foreign policy. The discussion of the role of human rights in American foreign policy will continue on March 26, together with a discussion of new challenges for human rights.

This meeting is open to the public, though seating is limited. Entry to the building is controlled. To obtain pre-clearance for entry, members of the public planning to attend must, no later than February 13 for the February 21 meeting, and March 18 for the March 26 meeting, provide their full name, date of birth, drivers' license or passport number, and email address to the RSVP email address at RSVPCommission@state.gov. Requests for reasonable accommodation should be made at the same time as the notification. Late requests will be considered, but might not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (State-33) and Security Records (State-36). See https://www.state.gov/system-of-records-notices-privacy-office/. Provision of this information is voluntary, but failure to provide accurate information may impede your ability to register for the event. Email addresses are collected for purposes of notification should the meeting be postponed or cancelled due to weather or other exigencies.

For additional information, contact Duncan Walker, Policy Planning Staff, at (202) 647-2236, or walkerdh3@state.gov.

Duncan H. Walker,
Designated Federal Officer, U.S. Department of State.

[FR Doc. 2020-01932 Filed 1-31-20; 8:45 am]

BILLING CODE 4710-10-P